DEPARTMENT OF COMMERCE

National Oceanic and Atmospheric Administration

Hydrographic Services Review Panel Meeting

AGENCY: National Ocean Service, National Oceanic and Atmospheric Administration (NOAA), Department of Commerce.

ACTION: Notice of open meeting.

SUMMARY: The Hydrographic Services Review Panel (HSRP) is a Federal Advisory Committee established to advise the Under Secretary of Commerce for Oceans and Atmosphere on matters related to the responsibilities and authorities set forth in section 303 of the Hydrographic Services Improvement Act of 1998, as amended, and such other appropriate matters that the Under Secretary refers to the Panel for review and advice.

Date and Time: The public meeting will be held on February 25-26, 2014. February 25th from 8:30 a.m. to 6:00 p.m. EST; February 26th from 8:30 a.m. to 5:30 p.m. EST.

Location: Grand Hyatt New York, 109 East 42nd Street, Park Avenue at Grand Central Station, New York, New York, 10017, tel: (212) 883-1234. Refer to the HSRP Web site listed below for the most current meeting agenda. Times and agenda topics are subject to change. For interested members of the public who cannot attend in person, the HSRP meeting will provide webinar (WebEX) and teleconference capability for public access to listen and observe the meeting presentations. Members of the public who wish to participate virtually must register in advance by February 19, 2014. WebEX is available for Tuesday, February 25th from 8:30 a.m. to 6:00 p.m., and on Wednesday, February 26th from 8:30 a.m. to 11:15 a.m. and from 2:15 p.m. to 5:30 p.m. To register for virtual access via WebEX/teleconference and/or to submit public comments, please contact Ashley Chappell at email: Ashley.Chappell@noaa.gov.

FOR FURTHER INFORMATION CONTACT: Kathy Watson, HSRP Program Coordinator, National Ocean Service (NOS), Office of Coast Survey, NOAA (N/CS), 1315 East West Highway, Silver Spring, Maryland 20910; Telephone: 301-713-2770 ext. 158; Fax: 301-713-4019; Email: Kathy.Watson@noaa.gov or visit the NOAA HSRP Web site at http://nauticalcharts.noaa.gov/ocs/hsrp/hsrp.htm.

SUPPLEMENTARY INFORMATION: The meeting will be open to the public and public comment periods (on-site and via teleconference line) will be scheduled at various times throughout the meeting. These comment periods will be included in the final agenda published before February 21, 2014, on the HSRP Web site listed above. Each individual or group making verbal comments will be limited to a total time of five (5) minutes. Comments will be recorded. Written comments should be submitted to Kathy.Watson@noaa.gov by February 19, 2014. Written comments received after February 19, 2014, will be distributed to the HSRP, but may not be reviewed until the meeting. Public seating will be available on a first-come, first-served basis.

Special Accommodations: HSRP public meetings are physically accessible to people with disabilities. Requests for sign language interpretation or other auxiliary aids should be directed to Kathy Watson, HSRP Program Coordinator, National Ocean Service (NOS), Office of Coast Survey, NOAA (N/CS), 1315 East West Highway, Silver Spring, Maryland 20910; Telephone: 301-713-2770 ext. 158, or Email: Kathy.Watson@noaa.gov by February 14, 2014.

Matters To Be Considered: Regional and local stakeholders will present to the HSRP on issues relevant to NOAA's navigation services mission. Broad topic areas to be discussed include: (1) NOAA's navigation services mission to support the U.S. marine transportation system and economy; (2) the use of NOAA's navigation data, products, and services for national and regional preparedness, response, recovery, and resiliency efforts, specifically in relation to Post Tropical Cyclone Sandy and the Disaster Relief Appropriations Act of 2013; and (3) the use and need for improvements to NOAA's data, products, and services for navigation safety, improved Federal emergency response, informed local and regional coastal planning, risk reduction strategies for resilient coastal communities; and (4) the use and application of NOAA's charting, geodetic and tide, current and water level information to support pre-storm preparation and post-storm response and recovery.

The HSRP will also hold focused breakout sessions with regional and local stakeholders to further discuss challenges and issues presented during the stakeholder panel presentations, and other issues not previously presented. The breakout sessions will be held on Wednesday, February 26, 2014, with three general themes: (1) Updated nautical charting and consistency in standards; (2) Integrated Ocean and Coastal Mapping, modeling and resiliency; and (3) integrating Federal emergency response efforts for coastal resiliency.

Members of the public (attending in person) are welcome to participate and register for these sessions by contacting NOAA's Northeast Navigation Manager, LCDR Brent Pounds at email: Brent.Pounds@noaa.gov; or the HSRP Program Coordinator, Kathy Watson at email: Kathy.Watson@noaa.gov by February 19, 2014. Members of the public, who wish to participate in the breakout session virtually (via teleconference capability), should contact Ashley Chappell at email: Ashley.Chappell@noaa.gov by February 19, 2014.

The breakout sessions provide the public with the opportunity to interact with HSRP members on concerns or issues with NOAA's navigation data, products, and services, and to present options or recommendations for improvement. The HSRP will consider input from these breakout sessions, and from the meeting presentations, to develop its recommendations for submission to the NOAA Acting Administrator for improving NOAA's navigation data, products, and services.

Dated: January 28, 2014.
Christopher C. Cartwright,
Associate Assistant Administrator for Management and CFO/CAO, National Ocean Service, National Oceanic and Atmospheric Administration.

[FR Doc. 2014-02258 Filed 2-3-14; 8:45 am]

BILLING CODE 3510-JE-P